DEPARTMENT OF HOMELAND SECURITY

Transportation Security Administration

[Docket No. TSA-2003-14610]

Intent To Request Revision From OMB of One Current Public Collection of Information: Security Threat Assessment for Individuals Applying for a Hazardous Materials Endorsement for a Commercial Driver's License

AGENCY: Transportation Security Administration, DHS.

ACTION: 60-Day notice.

SUMMARY: The Transportation Security Administration (TSA) invites public comment on one currently approved Information Collection Request (ICR), Office of Management and Budget (OMB) control number 1652-0027, abstracted below that we will submit to OMB for a revision in compliance with the Paperwork Reduction Act (PRA). The ICR describes the nature of the information collection and its expected burden. The collection involves a driver's voluntary submission of biometric and biographic information for TSA's security threat assessment (STA) in order to obtain the hazardous materials endorsement (HME) on a commercial driver's license (CDL) issued by States and the District of Columbia.

DATES: Send your comments by June 7, 2021.

ADDRESSES: Comments may be emailed to TSAPRA@dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is inviting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0027; Security Threat Assessment for Individuals Applying for a Hazardous Materials Endorsement for a Commercial Driver's License, 49 CFR part 1572. TSA is requesting a revision of the currently approved ICR. The currently approved ICR supports implementation of 49 U.S.C. 5103a,¹ which mandates that no State or the District of Columbia may issue an HME on a CDL unless TSA has first determined that the driver is not a threat to transportation security.

¹ Which codified sec. 1012 of Public Law 107-56 (115 Stat. 272, 396, Oct. 26, 2001), Uniting and Strengthening America by Providing Appropriate Tools Required to Intercept and Obstruct Terrorism (USA PATRIOT ACT) Act of 2001.

TSA's implementing regulations (codified at 49 CFR part 1572) describe the procedures, standards, and eligibility criteria for STAs of individuals seeking to obtain, renew, or transfer an HME on a CDL. To conduct the STA for the HME, States (or a TSA-designated agent in States that elect to have TSA perform the collection of information) must collect additional information beyond that already collected for the purpose of HME applications (which occur approximately once every five years). The driver is required to submit an application that includes personal information including driver's legal name; current and previous mailing addresses; date of birth; gender; height, weight, eye, and hair color; city, state, and country of birth; social security number (optional); immigration status; mental incapacity; criminal history; and biometrics, such as fingerprints.

States or the TSA agent must also submit whether the driver is a new applicant or applying to renew or transfer the HME. This information is necessary for TSA to forecast driver retention, transfer rate, and drop rate to help improve customer service and reduce program costs. This information also may be necessary to provide comparability with other Federal background checks, including the Transportation Workers Identification Credential (TWIC®).

In addition, the ICR includes the collection of information to expand enrollment options and the potential use of biographic and biometric (e.g., fingerprints, iris scans, and/or photo) information for additional comparability determinations. States have the option to permit TWIC holders to obtain an HME without completing a new STA, and applicants in States that allow comparability pay a reduced fee to obtain the HME. TSA may also use the information to determine whether the driver with a valid HME is eligible to participate in TSA's expedited screening program for air travel, the TSA PreCheck® Application Program. As of April 2020, unexpired HME drivers who meet the eligibility requirements for TSA PreCheck may use their CDL number and two digit State code (e.g., NY1234567 for a New York CDL) in the appropriate known traveler number field of an airline reservation to obtain expedited screening eligibility.²

² Transportation Security Administration. (2020, July 8.) Active TWIC® and HME holders can use their credentials to obtain TSA PreCheck™ [Press release]. Retrieved from https://www.tsa.gov/news/press/releases/2020/07/08/active-twicr-and-hme-holders-can-use-their-credentials-obtain-tsa.

When the STA is complete, TSA makes a final determination on eligibility for the HME and notifies applicants of its decision. Most applicants will receive notification from TSA within two to three weeks of the submission of their completed applications. If initially deemed ineligible by TSA, applicants will have an opportunity to apply for an appeal or waiver. Applicants must submit an application for appeal or waiver within 60 days of issuance of TSA's notification on eligibility. If an application for appeal or waiver is not received by TSA within the specified amount of time, the agency may make a final determination to deny eligibility.

TSA is revising the collection to reflect the implementation of an online renewal or re-enrollment capability for those applicants. Active HME holders will be able to renew online before their STA expires; HME holders who have a recently expired STA will be able to re-enroll online. Approximately 60 percent of active HME holders enroll to renew their HME when it expires every five years. Online HME renewals will reduce the applicant's cost and hour burden by avoiding visiting a TSA enrollment center for the renewal of a STA. Also, TSA is revising the collection to reflect the subscription of HME holders, in States serviced by TSA's enrollment contractor, in the Federal Bureau of Investigation's (FBI) Rap Back Service. Once an individual is enrolled in Rap Back, TSA will not be required to collect new biometric fingerprints from the individual every five years or collect a fee from the individual for the submission of fingerprints to the FBI. The implementation of Rap Back recurrent criminal history vetting for HME holders will mitigate certain security risks posed by individuals who commit a disqualifying offense after their STA is completed and the HME is issued. Due to the reduced cost of the online enrollment transaction and elimination of the fingerprint fee, the renewal fee for an HME STA will decrease.

The currently approved ICR also includes an optional survey to gather information regarding the driver's overall customer satisfaction with the service TSA's enrollment provider provides in the TSA-agent states. The survey currently is administered in-person at the conclusion of the enrollment process. TSA is revising the collection to allow the survey to be administered at the conclusion of the enrollment process via hyperlink sent to the applicant's email address, where available. The survey will also be sent to those applicants who use the online renewal process, where applicable. Please note that the optional survey is used only in States serviced by TSA's designated enrollment contractor.

TSA estimates an annualized 247,952 respondents will apply for an HME, and that the application and STA process will involve 259,253 annualized hours. The applicant fee remains $86.50, which covers TSA's program costs, TSA's enrollment vendor's costs, and the FBI fee for the criminal history records check. For applicants in States that allow comparability, the reduced fee remains $67.00.

Dated: April 2, 2021.
Christina A. Walsh,
TSA Paperwork Reduction Act Officer, Information Technology.

[FR Doc. 2021-07193 Filed 4-7-21; 8:45 am]

BILLING CODE 9110-05-P